DEPARTMENT OF ENERGY

Federal Energy Regulatory Commission

Combined Notice of Filings No. 1

May 17, 2010.

Take notice that the Commission has received the following Natural Gas Pipeline Rate and Refund Report filings:

Docket Numbers: RP10-730-000.

Applicants: Questar Pipeline Company.

Description: Questar Pipeline Company submits Forty-Seventh Revised Sheet 7 et al. to FERC Gas Tariff, First Revised Volume 1, to be effective 6/14/10.

Filed Date: 05/13/2010.

Accession Number: 20100513-0223.

Comment Date: 5 p.m. Eastern Time on Tuesday, May 25, 2010.

Docket Numbers: RP10-731-000.

Applicants: Trunkline Gas Company, LLC.

Description: Trunkline Gas Company, LLC submits Seventh Revised Sheet 2 et al. to FERC Gas Tariff, Third Revised Volume 1, to be effective 6/13/10.

Filed Date: 05/13/2010.

Accession Number: 20100513-0222.

Comment Date: 5 p.m. Eastern Time on Tuesday, May 25, 2010.

Docket Numbers: RP10-732-000.

Applicants: Energy West Development, Inc.

Description: Energy West Development, Inc. submits Second Revised Sheet 1 et al. to its FERC Gas Tariff, Volume 1, to be effective 6/11/10.

Filed Date: 05/12/2010.

Accession Number: 20100513-0224.

Comment Date: 5 p.m. Eastern Time on Monday, May 24, 2010.

Docket Numbers: RP10-733-000.

Applicants: Kinder Morgan Interstate Gas Trans. LLC.

Description: Petition of KMIGT for a Limited Waiver of Tariff Provision.

Filed Date: 05/13/2010.

Accession Number: 20100513-5090.

Comment Date: 5 p.m. Eastern Time on Tuesday, May 25, 2010.

Docket Numbers: RP10-734-000.

Applicants: Transcontinental Gas Pipe Line Company, LLC.

Description: Transcontinental Gas Pipe Line Company, LLC submits 3/10/10 letter agreement between Transco and its Rate Schedules SS-1 Open Access and SS-1 Section.

Filed Date: 05/13/2010.

Accession Number: 20100513-0231.

Comment Date: 5 p.m. Eastern Time on Tuesday, May 25, 2010.

Docket Numbers: RP10-735-000.

Applicants: Gulf South Pipeline Company, LP.

Description: Gulf South Pipeline Company, LP submits Capacity Release Agreement.

Filed Date: 05/13/2010.

Accession Number: 20100513-0230.

Comment Date: 5 p.m. Eastern Time on Tuesday, May 25, 2010.

Docket Numbers: RP10-736-000.

Applicants: Gulf South Pipeline Company, LP.

Description: Gulf South Pipeline Company, LP submits Capacity Release Agreement.

Filed Date: 05/13/2010.

Accession Number: 20100513-0229.

Comment Date: 5 p.m. Eastern Time on Tuesday, May 25, 2010.

Docket Numbers: RP10-737-000.

Applicants: TransColorado Gas Transmission Company LLC.

Description: TransColorado Gas Transmission Company LLC submits FERC Gas Tariff, Third Revised Volume 1 pursuant to Part 154.204 under RP10-737, to be effective 6/14/10.

Filed Date: 05/14/2010.

Accession Number: 20100514-5056.

Comment Date: 5 p.m. Eastern Time on Wednesday, May 26, 2010.

Docket Numbers: RP10-738-000.

Applicants: El Paso Natural Gas Company.

Description: El Paso Natural Gas Company submits tariff filing per 154.203: Settlement Implementation to be effective 6/1/2010.

Filed Date: 05/14/2010.

Accession Number: 20100514-5063.

Comment Date: 5 p.m. Eastern Time on Wednesday, May 26, 2010.

Docket Numbers: RP10-739-000.

Applicants: Hardy Storage Company, LLC.

Description: Hardy Storage Company's submits annual report regarding the crediting of penalty revenues.

Filed Date: 05/14/2010.

Accession Number: 20100514-0218.

Comment Date: 5 p.m. Eastern Time on Wednesday, May 26, 2010.

Docket Numbers: RP10-740-000.

Applicants: Gulf South Pipeline Company, LP.

Description: Gulf South Pipeline Company, LP submits capacity release agreement containing negotiated rate provisions by Gulf South and Texla Energy Management, Inc.

Filed Date: 05/14/2010.

Accession Number: 20100514-0207.

Comment Date: 5 p.m. Eastern Time on Wednesday, May 26, 2010.

Docket Numbers: RP10-741-000.

Applicants: Dominion Transmission, Inc.

Description: Dominion Transmission, Inc. submits revised tariff sheets shown in Exhibit A for inclusion in its FERC Gas Tariff, Second Revised Volume 1A.

Filed Date: 05/14/2010.

Accession Number: 20100514-0208.

Comment Date: 5 p.m. Eastern Time on Wednesday, May 26, 2010.

Docket Numbers: RP10-742-000.

Applicants: Alliance Pipeline L.P.

Description: Alliance Pipeline L.P. submits tariff filing per 154.204: Correct Sheet Reference in Baseline Filing to be effective 6/15/2010.

Filed Date: 05/14/2010.

Accession Number: 20100514-5136.

Comment Date: 5 p.m. Eastern Time on Wednesday, May 26, 2010.

Docket Numbers: RP10-743-000.

Applicants: Calpine Energy Services, L.P., Conectiv Energy.

Description: Calpine Energy Services, L.P., et al. request a temporary waiver of the capacity release requirements in Section 284.8 of the Commission's regulations.

Filed Date: 05/14/2010.

Accession Number: 20100514-5160.

Comment Date: 5 p.m. Eastern Time on Wednesday, May 26, 2010.

Docket Numbers: RP10-744-000.

Applicants: Algonquin Gas Transmission, LLC.

Description: Algonquin Gas Transmission, LLC submits tariff filing per 154.203: AGT Baseline Filing to be effective 5/17/2010.

Filed Date: 05/17/2010.

Accession Number: 20100517-5013.

Comment Date: 5 p.m. Eastern Time on Tuesday, June 01, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-12396 Filed 5-21-10; 8:45 am]

BILLING CODE 6717-01-P